DEPARTMENT OF EDUCATION

List of Correspondence From October 1, 2012, Through December 31, 2012

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Jill Harris or Mary Louise Dirrigl. Telephone: (202) 245-7453.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jill Harris or Mary Louise Dirrigl at (202) 245-7453.

SUPPLEMENTARY INFORMATION:

The following list identifies correspondence from the Department issued from October 1, 2012, through December 31, 2012. Under section 607(f) of the IDEA, the Secretary is required to publish this list quarterly in the Federal Register. The list includes those letters that contain interpretations of the requirements of the IDEA and its implementing regulations, and it may also include letters and other documents that the Department believes will assist the public in understanding the requirements of the law. The list identifies the date and topic of each letter, and it provides summary information, as appropriate. To protect the privacy interests of the individual or individuals involved, personally identifiable information has been redacted, as appropriate.

Part B—Assistance For Education of All Children With Disabilities

Section 612—State Eligibility

Topic Addressed: Least Restrictive Environment

○ Letter dated December 4, 2012, to Texas Education Agency General Counsel David Anderson, regarding how the least restrictive environment requirements in Part B of the IDEA apply to local educational agencies (LEAs) when children with disabilities ages 16 through 18 who have dropped out of high school choose to enroll in the National Guard Youth Challenge Program.

Topic Addressed: Children in Private Schools

○ Letter dated November 7, 2012 to Advocate's Legal Clinic attorney Michael Boswell, reiterating the Department's previous guidance regarding the requirements in Part B of the IDEA that apply to children with disabilities enrolled by their parents in private schools through a State funded scholarship program.

Section 613—Local Educational Agency Eligibility

Topic Addressed: Use Of Federal Funds

○ Letter dated November 14, 2012, to University of Maine—Farmington, Chair of the Division of Rehabilitation Services and Special Education, Dr. Rick Dale, regarding an LEA's use of funds under Part B of the IDEA for coordinated early intervening services.

Section 614—Evaluations, Eligibility Determinations, Individualized Education Programs, and Educational Placements

Topic Addressed: Initial Evaluations

○ Letter dated November 20, 2012, to New York State

Education Department officials, Pat Geary and James P. DeLorenzo, regarding difficulties faced by LEAs in meeting the initial evaluation and other relevant timelines in Part B of the IDEA due to the emergency situation caused by Hurricane Sandy.

Section 615—Procedural Safeguards

Topic Addressed: Impartial Due Process Hearings

○ Letter dated November 7, 2012, to Texas attorney Dorene Philpot, regarding whether certain Texas' due process procedural rules are consistent with Part B of the IDEA.

○ Letter dated November 30, 2012, to New Jersey attorneys Judith A. Gran and Catherine Merino Reisman, regarding State criteria governing the attendance of certain LEA employees at a due process hearing when the parent chooses not to open the hearing to the public.

Topic Addressed: Maintenance of Current Educational Placement

○ Letter dated October 18, 2012, to New York attorney Steven L. Goldstein, regarding the requirement to maintain a child's current educational placement during the pendency of administrative or judicial proceedings brought under Part B of the IDEA.

Part C—Infants and Toddlers With Disabilities

Section 639—Procedural Safeguards

Topic Addressed: Early Intervention Records

○ Letter dated December 7, 2012, from the Department's Family Policy Compliance Office to District of Columbia Office of the State Superintendent of Education Assistant Attorney General Carmela N. Edmunds, regarding the status of early intervention records of infants and toddlers with disabilities under Part C of the IDEA.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 12, 2013.
Michael Yudin,
Acting Assistant Secretary for Special Education and Rehabilitative Services.

[FR Doc. 2013-06183 Filed 3-15-13; 8:45 am]

BILLING CODE 4000-01-P